DEPARTMENT OF AGRICULTURE

Submission for OMB Review; Comment Request

June 8, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: 2005 Section 32 Hurricane Disaster Programs.

OMB Control Number: 0560-0257.

Summary of Collection: The purpose of this request for information collection is to extend the requirements of the 2005 Section 32 Hurricane Disaster Programs. On January 26, 2006, the Secretary announced the 2005 Section 32 Hurricane Disaster Programs, consisting of the Feed Indemnity, the Hurricane Indemnity Program, the Livestock Indemnity Program, and the Tree Indemnity Program. These four programs targeted assistance to producers located in specific counties and States who lost crops, trees, livestock and or livestock feed as a result of damage caused by five specific hurricanes and tropical storms that occurred in calendar year 2005.

Need and Use of the Information: The Farm Service Agency will collect information using form FSA-573, “2005 Section 32 Hurricane Disaster Programs Application”. This information will be used to make eligibility determinations on producers requests for payments to supplement indemnities or payments received under Federal Crop Insurance or the Noninsured Crop Disaster Assistance Program, in addition to request for payments to compensate for losses under one or more of the four programs covered under the 2005 Section 32 Hurricane Disaster Programs. Producers are asked to provide specific information regarding crops, trees, bushes, vines, livestock, and livestock feed that were lost as a result of one or more hurricanes or tropical storms in calendar year 2005.

Description of Respondents: Individuals or households; Business or other-for-profit; Not-for-profit institutions; Farms; State, local and tribal government.

Number of Respondents: 34,008.

Frequency of Responses: Recordkeeping; Reporting: Other (Request once).

Total Burden Hours: 51,012.

Ruth Brown,
Departmental Information Collection Clearance Officer.

[FR Doc. E6-9237 Filed 6-13-06; 8:45 am]

BILLING CODE 3410-05-P